DEPARTMENT OF JUSTICE

[OMB Number 1121-0259]

Agency Information Collection Activities; Proposed eCollection eComments Requested; Extension Without Change, of a Previously Approved Collection Public Safety Officer Medal of Valor

AGENCY: Bureau of Justice Assistance, Department of Justice.

ACTION: 30-Day notice.

SUMMARY: The Department of Justice (DOJ), Office of Justice Programs, Bureau of Justice Assistance, will be submitting the following information collection request to the Office of Management and Budget (OMB) for review and approval in accordance with the Paperwork Reduction Act of 1995.

DATES: Comments are encouraged and will be accepted for 30 days until April 10, 2019.

FOR FURTHER INFORMATION CONTACT: If you have additional comments on the estimated burden to facilities covered by the standards to comply with the regulation's reporting requirements, suggestions, or need additional information, please contact Gregory Joy, Program Analyst, Bureau of Justice Assistance, 810 Seventh Street NW, Washington, DC 20531.

SUPPLEMENTARY INFORMATION: Written comments and suggestions from the public and affected agencies concerning the proposed collection of information are encouraged. Your comments should address one or more of the following four points:

—Evaluate whether the proposed collection of information is necessary for the proper performance of the functions of the Bureau of Justice Assistance, including whether the information will have practical utility;

—Evaluate the accuracy of the agency's estimate of the burden of the proposed collection of information, including the validity of the methodology and assumptions used;

—Evaluate whether, and if so how, the quality, utility, and clarity of the information to be collected can be enhanced; and/or

—Minimize the burden of the collection of information on those who are to respond, including through the use of appropriate automated, electronic, mechanical, or other technological collection techniques or other forms of information technology, e.g., permitting electronic submission of responses.

Overview of This Information Collection

1. Type of Information Collection: Extension of a currently approved collection.

2. The Title of the Form/Collection: Public Safety Officer Medal of Valor (Pub. L. 107-12).

3. The agency form number, if any, and the applicable component of the Department sponsoring the collection: The application process is managed through the internet, using the Office of Justice Programs' (OJP) MOV online application system at: https://www.bja.gov/programs/medalofvalor/index.html.

4. Affected public who will be asked or required to respond, as well as a brief abstract: The information that is being collected is solicited from federal, state, local and tribal public safety agencies, who wish to nominate their personnel to receive the Public Safety Officer Medal of Valor (MOV). This information is provided on a voluntary basis, includes agency and nominee information along with details about the events for which the nominees are to be consider when determining who will be recommended to receive the MOV.

5. An estimate of the total number of respondents and the amount of time estimated for an average respondent to respond: Over the last four application submission periods, (2011-2012 thru 2014-2015), there were a total of 514 applications received. Taking this number into account, the average number of applications that are anticipated to be received on an annual basis is 128.5. This number does not factor in the ongoing outreach efforts (e.g., marketing and social medial outreach) that are intended to increase the number of annual submissions. In addition, it is projected that the application submission process takes approximately 25 minutes. This would include, reviewing the fields of required and optional information, arranging the information and populating the online application form.

6. An estimate of the total public burden (in hours) associated with the collection: Base upon the average number of submissions over the last 4 years, and the estimated time required to complete each submission, the estimated annual public burden would be 53.54 hours.

a. 128.5 × 25 minutes = 3,212.5 minutes/60 = 53.54 hours.

If additional information is required contact: Melody Braswell, Department Clearance Officer, United States Department of Justice, Justice Management Division, Policy and Planning Staff, Two Constitution Square, 145 N Street NE, 3E.405A, Washington, DC 20530.

Dated: March 5, 2019.
Melody Braswell,
Department Clearance Officer for PRA, U.S. Department of Justice.

[FR Doc. 2019-04271 Filed 3-8-19; 8:45 am]

BILLING CODE 4410-18-P